DEPARTMENT OF HOUSING AND URBAN DEVELOPMENT

[Docket No. FR-5300-FA-19]

Announcement of Funding Awards for the Section 811 Supportive Housing for Persons With Disabilities Program Fiscal Year 2009

AGENCY: Office of the Assistant Secretary for Housing—Federal Housing Commissioner, HUD.

ACTION: Notice of funding awards.

SUMMARY: In accordance with section 102 (a)(4)(C) of the Department of Housing and Urban Development Reform Act of 1989, this announcement notifies the public of funding decisions made by the Department in a competition for funding under the Notice of Funding Availability (NOFA) for the Section 811 Supportive Housing for Persons with Disabilities Program. This announcement contains the names of the awardees and the amounts of the awards made available by HUD.

FOR FURTHER INFORMATION CONTACT: Ms. Aretha Williams, Acting Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Website at http://www.hud.gov.

SUPPLEMENTARY INFORMATION: The Section 811 Supportive Housing for Persons with Disabilities Program is authorized by Section 811 of the Cranston-Gonzalez National Affordable Housing Act (Pub. L. 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); the Consolidated Appropriations Act, 2008 (Pub. L. 110-161; approved December 26, 2007; and the Omnibus Appropriations Act, 2009 (Pub. L. 111-8 approved March 11, 2009).

The competition was announced in the SuperNOFA published in the Federal Register on September 1, 2009. Applications were rated and selected for funding on the basis of selection criteria contained in that Notice.

The Catalog of Federal Domestic Assistance number for this program is 14.181.

The Section 811 program is the Department's primary program for providing affordable housing for persons with disabilities that allows them to live independently with supportive services. Under this program, HUD provides funds to non-profit organizations to develop supportive housing for persons with disabilities. Funds are also provided to subsidize the expenses to operate the housing projects.

A total of $95,715,900 was awarded to 67 projects for 648 units nationwide. In accordance with section 102(a)(4)(C) of the Department of Housing and Urban Development Reform Act of 1989 (103 Stat. 1987. 42 U.S.C. 3545), the Department is publishing the awardees and amounts of the awards in Appendix A of this document.

Dated: August 15, 2011.
Carol J. Galante,
Acting Assistant Secretary for Housing-Federal Housing Commissioner.

Appendix A—FY 2009 Selections

Section 811 Supportive Housing for Persons With Disabilities

Alabama

Mobile, AL

VOA Southeast, Inc.

Capital Advance: $1,524,300

Three-year rental subsidy: $124,800

Number of units: 14

Alaska

Anchorage, AK

Anchorage Neighborhood Housing Services, Inc

Capital Advance: $2,085,000

Three-year rental subsidy: $206,100

Number of units: 10

Arizona

Mesa, AZ

MARC Center of Mesa, Inc.

Capital Advance: $1,516,200

Three-year rental subsidy: $145,200

Number of units: 14

Tucson, AZ

La Frontera Center, Inc.

Capital Advance: $1,516,200

Three-year rental subsidy: $142,500

Number of units: 14

Arkansas

Haskell, AR

Birch Tree Communities, Inc.

Capital Advance: $981,200

Three-year rental subsidy: $80,400

Number of units: 10

California

Montclair, CA

National Community Renaissance of California

Capital Advance: $2,869,900

Three-year rental subsidy: $294,600

Number of units: 18

San Jose, CA

Eden Housing, Inc.

Capital Advance: $2,972,000

Three-year rental subsidy: $327,900

Number of units: 18

Colorado

Greeley, CO

Accessible Space Inc.

Capital Advance: $1,927,900

Three-year rental subsidy: $176,100

Number of units: 17

Connecticut

Stamford, CT

Mutual Housing Assoc of Southwestern Connecticut

Capital Advance: $903,500

Three-year rental subsidy: $87,600

Number of units: 6

Florida

Clearwater, FL

Abilities of Florida Inc.

Capital Advance: $1,083,600

Three-year rental subsidy: $72,000

Number of units: 8

St. Petersburg, FL

Boley Centers, Inc.

Capital Advance: $1,816,200

Three-year rental subsidy: $125,700

Number of units: 14

St. Petersburg, FL

Boley Centers, Inc.

Capital Advance: $1,167,600

Three-year rental subsidy: $81,000

Number of units: 9

Georgia

Austell, GA

Right in the Community, Inc.

Capital Advance: $428,800

Three-year rental subsidy: $39,300

Number of units: 4

Macon, GA

Advocacy Resource Center-Macon, Inc.

Capital Advance: $428,800

Three-year rental subsidy: $39,300

Number of units: 4

Macon, GA

Georgia Behavioral Services, Inc.

Capital Advance: $1,198,800

Three-year rental subsidy: $98,100

Number of units: 10

Macon, GA

Advocacy Resource Center-Macon, Inc.

Capital Advance: $428,800

Three-year rental subsidy: $39,300

Number of units: 4

Marietta, GA

Right in the Community, Inc.

Capital Advance: $428,800

Three-year rental subsidy: $39,300

Number of units: 4

Hawaii

Maunaloa, HI

ARC of Maui County

Capital Advance: $884,300

Three-year rental subsidy: $72,300

Number of units: 5

Illinois

Joliet, IL

Cornerstone Services Inc

Capital Advance: $1,452,800

Three-year rental subsidy: $93,600

Number of units: 8

Loves Park, IL

Milestone, Inc.

Capital Advance: $1,266,600

Three-year rental subsidy: $93,600

Number of units: 9

Indiana

Indianapolis, IN

Fay Biccard Glick Neighborhood Center at Crooked

Light of the World Christian Church Incorporated

Capital Advance: $1,650,600

Three-year rental subsidy: $166,200

Number of units: 15

Iowa

Logan, IA

Mosaic

Capital Advance: $1,505,800

Three-year rental subsidy: $101,100

Number of units: 10

Kansas

Wichita, KS

Mental Health Association of South Central Kansas, Inc.

Capital Advance: $1,674,100

Three-year rental subsidy: $139,500

Number of units: 14

Kentucky

Bardstown, KY

Communicare Inc

Capital Advance: $1,334,100

Three-year rental subsidy: $104,100

Number of units: 10

Louisville, KY

Schizophrenia Foundation

New Directions Housing Corporation

Capital Advance: $1,388,800

Three-year rental subsidy: $124,800

Number of units: 12

Louisiana

Hammond, LA

Options, Inc.

The Westminster Foundation

Capital Advance: $687,700

Three-year rental subsidy: $46,500

Number of units: 6

Maine

Lewiston, ME

John F. Murphy Homes, Inc.

Capital Advance: $599,400

Three-year rental subsidy: $48,600

Number of units: 4

Maryland

Eldersburg, MD

Prologue, Inc.

Capital Advance: $1,194,800

Three-year rental subsidy: $108,600

Number of units: 9

Lanham, MD

Vesta, Inc.

Capital Advance: $1,547,500

Three-year rental subsidy: $122,700

Number of units: 10

Massachusetts

Hingham, MA

Work, Inc.

Capital Advance: $638,600

Three-year rental subsidy: $77,700

Number of units: 5

Lynn, MA

Bridgewell, Inc.

Capital Advance: $1,575,500

Three-year rental subsidy: $139,500

Number of units: 10

Michigan

Garden City, MI

Liberty Hill Housing Corporation

Capital Advance: $2,042,400

Three-year rental subsidy: $149,100

Number of units: 12

Missouri

Cape Girardeau, MO

Community Counseling Center, Inc.

Capital Advance: $1,326,200

Three-year rental subsidy: $119,100

Number of units: 10

Nevada

Las Vegas, NV

Accessible Space, Inc.

Capital Advance: $1,475,900

Three-year rental subsidy: $116,700

Number of units: 10

New Jersey

Delaware Twp, NJ

Allies, Inc

Capital Advance: $1,189,600

Three-year rental subsidy: $169,500

Number of units: 8

Hopewell Borough, NJ

Community Options, Inc

Capital Advance: $599,400

Three-year rental subsidy: $62,700

Number of units: 4

Lafayette, NJ

Advance Housing, Inc

Capital Advance: $1,488,400

Three-year rental subsidy: $211,800

Number of units: 10

Plainfield, NJ

Cerebral Palsy of N Jersey, Inc

Capital Advance: $599,400

Three-year rental subsidy: $84,900

Number of units: 4

New York

Buffalo, NY

Community Services for the Developmentally Disable

Capital Advance: $1,116,600

Three-year rental subsidy: $99,000

Number of units: 8

Medford, NY

Concern for Independent Living, Inc.

Capital Advance: $3,016,900

Three-year rental subsidy: $293,700

Number of units: 12

Yonkers, NY

Westhab, Inc.

Capital Advance: $3,623,700

Three-year rental subsidy: $538,500

Number of units: 23

North Carolina

Lincolnton, NC

Reinvestment in Communities of Gaston County, Inc

Capital Advance: $1,453,700

Three-year rental subsidy: $104,100

Number of units: 10

Ohio

Grove City, OH

Creative Housing, Inc

Capital Advance: $889,600

Three-year rental subsidy: $88,200

Number of units: 8

Marion, OH

Ohio Multi County Development Corporation

Marion Area Counseling Center

Capital Advance: $1,112,000

Three-year rental subsidy: $110,100

Number of units: 10

Warren, OH

Trumbull Housing Development Corporation

Capital Advance: $1,227,800

Three-year rental subsidy: $124,200

Number of units: 10

Oklahoma

Lawton, OK

Quality Enterprises of Lawton, Inc

Capital Advance: $477,100

Three-year rental subsidy: $57,600

Number of units: 6

Wilburton, OK

Kibois Community Action Foundation, Incorporated

Capital Advance: $440,600

Three-year rental subsidy: $59,100

Number of units: 6

Pennsylvania

Beaver Falls, PA

Supportive Services, Inc

Capital Advance: $1,145,200

Three-year rental subsidy: $101,400

Number of units: 9

Erie, PA

HANDS Inc

Capital Advance: $1,216,200

Three-year rental subsidy: $112,500

Number of units: 10

New Kensington, PA

Family Services of Western PA

Capital Advance: $471,800

Three-year rental subsidy: $33,900

Number of units: 3

Philadelphia, PA

KenCrest Centers

Capital Advance: $1,661,000

Three-year rental subsidy: $141,600

Number of units: 9

Philadelphia, PA

KenCrest Centers

Capital Advance: $1,661,000

Three-year rental subsidy: $141,600

Number of units: 9

Rhode Island

Pawtucket, RI

The ARC of Blackstone Valley, Inc.

Capital Advance: $1,660,900

Three-year rental subsidy: $144,600

Number of units: 10

South Kingstown, RI

Opportunities Unlimited, Inc.

House of Hope Community Development Corp

Capital Advance: $934,500

Three-year rental subsidy: $86,700

Number of units: 6

South Carolina

Cayce, SC

Mental Health America of South Carolina

Capital Advance: $1,678,400

Three-year rental subsidy: $134,100

Number of units: 14

Tennessee

Knoxville, TN

Breakthrough Corporation

Capital Advance: $1,215,100

Three-year rental subsidy: $86,400

Number of units: 9

Texas

El Paso, TX

Project Vida

Capital Advance: $1,951,800

Three-year rental subsidy: $170,700

Number of units: 18

Kingwood, TX

The Village Learning Center, Inc.

MHMRA of Harris County

Capital Advance: $1,816,800

Three-year rental subsidy: $144,600

Number of units: 15

San Antonio, TX

George Gervin Youth Center, Inc.

Capital Advance: $1,409,000

Three-year rental subsidy: $133,800

Number of units: 15

Virginia

Danville, VA

Danville-Pittsylvania Community Services

Capital Advance: $574,000

Three-year rental subsidy: $43,200

Number of units: 4

Fredericksburg, VA

Rappahannock Community Service, Inc.

Capital Advance: $649,200

Three-year rental subsidy: $64,800

Number of units: 6

Washington

Spokane, WA

Spokane Mental Health Coordinating Association

Capital Advance: $1,726,100

Three-year rental subsidy: $168,300

Number of units: 15

Vancouver, WA

Columbia Nonprofit Housing

Capital Advance: $1,785,400

Three-year rental subsidy: $140,100

Number of units: 14

West Virginia

Charleston, WV

Religious Coalition for Community Renewal

Capital Advance: $394,500

Three-year rental subsidy: $23,400

Number of units: 2

Huntington, WV

Prestera Center for Mental Health Services, Inc

Capital Advance: $498,500

Three-year rental subsidy: $69,900

Number of units: 6

Wisconsin

Glendale, WI

Movin' Out, Inc

Capital Advance: $1,363,400

Three-year rental subsidy: $113,100

Number of units: 10

Madison, WI

Goodwill Industries of SC WI Inc

Capital Advance: $1,065,400

Three-year rental subsidy: $79,200

Number of units: 8

[FR Doc. 2011-21266 Filed 8-18-11; 8:45 am]

BILLING CODE 4210-67-P